DEPARTMENT OF COMMERCE

Foreign-Trade Zones Board

[Docket No. 16-2004]

Foreign-Trade Zone 38—Charleston, SC; Application for Subzone, Black & Decker Corporation (Power Tools, Lawn and Garden Tools, and Home Products Distribution), Fort Mill, SC

An application has been submitted to the Foreign-Trade Zones Board (the Board) by the South Carolina State Ports Authority, grantee of FTZ 38, requesting special-purpose subzone status for the tools and home products warehousing/ distribution facility of Black & Decker Corporation, in Fort Mill, South Carolina. The facility is located within the Charlotte, North Carolina, CBP port of entry. The application was submitted pursuant to the provisions of the Foreign-Trade Zones Act, as amended (19 U.S.C. 81a-81u), and the regulations of the Board (15 CFR part 400). It was formally filed on April 29, 2004.

The Black & Decker facility (1 building, 1,226,000 sq. ft. on 69.57 acres) is located at 4041 Pleasant Road, York County (Fort Mill area), South Carolina. A portion of the building also lies within Mecklenburg County, North Carolina. The facility (800 employees) is used for the assembling, testing, packaging, warehousing and distribution of hand-held tools and accessories; home products, including vacuums, flashlights and wet scrubbers; security hardware; plumbing products (including kitchen and bath faucets and accessories); and, fastening and assembly systems (including stud welding, specialty screws and related products and accessories; activities which Black & Decker is proposing to perform under FTZ procedures. Some 60-70 percent of the components are sourced abroad. About 14 percent of production is currently exported.

Zone procedures would exempt Black & Decker from Customs duty payments on foreign products that are re-exported. On domestic sales, the company would be able to defer payments until merchandise is shipped from the plant. The applicant is also requesting to use zone procedures to take advantage of inverted tariff situations involving the assembly and packaging of certain promotional sets of products. Black & Decker is requesting to choose the lower rate on finished assembled sets rather than the individual component product rates. The component products include hand-held tools, chargers, batteries, tool storage boxes, gator clips (duty rates range from zero to 9.0%). In certain cases, the finished sets may be classified by the essential character of the hand-held tool (duty rates, zero to 3.5%). Assembled tool sets constitute some 5 percent of sales from the Fort Mill site. The application indicates that the savings from zone procedures will help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for their receipt is July 6, 2004. Rebuttal comments in response to material submitted during the foregoing period may be submitted during the subsequent 15-day period (to July 20, 2004).

A copy of the application and accompanying exhibits will be available for public inspection at the Office of the Foreign-Trade Zones Board's Executive Secretary at address Number 1 listed above, and at the U.S. Department of Commerce Export Assistance Center, 521 East Morehead Street, Suite 435, Charlotte, NC 28217.

Dated: April 29, 2004.
Dennis Puccinelli,
Executive Secretary.

[FR Doc. 04-10333 Filed 5-5-04; 8:45 am]

BILLING CODE 3510-DS-P